FEDERAL COMMUNICATIONS COMMISSION

Information Collection Being Reviewed by the Federal Communications Commission Under Delegated Authority

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 30, 2012. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-0132.

Title: Supplemental Information—72-76 MHz Operational Fixed Stations.

Form Number: FCC Form 1068A.

Type of Review: Extension of a currently approved collection.

Respondents: Individuals or Households; Business or other for-profit entities; Not-for-profit institutions; and State, Local, or Tribal Government.

Number of Respondents: 300 respondents; 300 responses.

Estimated Time per Response: .50 hours.

Frequency of Response: On occasion reporting requirement.

Obligation To Respond: Required to obtain or retain benefits. There is no statutory authority cited for this information collection.

Total Annual Burden: 150 hours.

Total Annual Cost: N/A.

Privacy Impact Assessment: Yes. Records may include information about individuals or households, e.g., personally identifiable information or PII, and the uses and disclosure of this information are governed by the requirements of a System of Records Notice (“SORN”, FCC/WTB-1, “Wireless Services Licensing Records.” There are no additional impacts under the Privacy Act.

Nature and Extent of Confidentiality: The Commission has in place the following policy and procedures for records retention and disposal: Records will be actively maintained as long as the license is valid; paper records will be archived after being keyed or scanned into the ULS database and destroyed when 12 years old; electronic records will be backed up and deleted 12 years after the license is no longer valid.

Needs and Uses: The Commission is seeking OMB approval for an extension of this expiring information collection in order to obtain the full three year approval from them. There are no changes in the reporting requirements. There are no changes to the Commission's previous burden estimates.

Section 90.527 of the Commission's rules requires that an applicant agrees to eliminate any harmful interference caused by the operation to TV reception on either channel 4 or 5 that might develop. The FCC Form 1068A is filed along with FCC Form 601 when applying for the assignment of frequencies in the 72-76 MHz band. The FCC Form 1068A is required by the Communications Act of 1934, as amended and 47 CFR 90.527.

Federal Communications Commission.
Marlene H. Dortch,
Secretary, Office of the Secretary, Office of Managing Director.

[FR Doc. 2012-4573 Filed 2-27-12; 8:45 am]

BILLING CODE 6712-01-P